ENVIRONMENTAL PROTECTION AGENCY

[FRL-7473-7]

Notice of Request for Initial Proposals (IP) for Projects To Be Funded From the Water Quality Cooperative Agreement Allocation (CFDA 66.463—Water Quality Cooperative Agreements); Correction

AGENCY: Environmental Protection Agency (EPA).

ACTION: Notice; correction.

SUMMARY: EPA Region 6 published in the Federal Register of March 19, 2003, a notice soliciting Initial Proposals funded from the Regional Water Quality Cooperative Agreement allocation. Inadvertently, the minus was deleted from the points listed under applicant's past performance of the evaluation criteria. Applicant's past performance should be listed as a minus 3 points (-3).

FOR FURTHER INFORMATION CONTACT: Terry Mendiola by telephone at 214-665-7144 or by e-mail at mendiola.teresita@epa.gov.

SUPPLEMENTARY INFORMATION: EPA Region 6 published a notice in the Federal Register of March 19, 2003, (53 FR 13303) soliciting Initial Proposals for projects to be funded from the Regional Water Quality Cooperative Agreement Allocation. Inadvertently, the minus was deleted from the points listed under applicant's past performance of the evaluation criteria. The evaluation criteria states that points will be taken away for poor past performance if knowledge of applicant's past performance is available to EPA. Therefore, applicant's past performance should be listed as a minus 3 points (−3). This correction adds the minus to indicate points will be taken away. In notice FR Doc. 03-6576 published on March 19, 2003, (53 FR 13303) make the following correction. On page 13305, in the third column, add a minus to (3 points) to read (−3 points) under applicant's past performance of the EPA IP Evaluation Criteria.

Dated: March 20, 2003.
Miguel I. Flores,
Director, Water Quality Protection Division, Region 6.

[FR Doc. 03-7371 Filed 3-26-03; 8:45 am]

BILLING CODE 6560-50-P